DEPARTMENT OF COMMERCE

[Docket No. 000817241-4320-03]

Notice of Funding Availability for Postsecondary Internship Program

AGENCY: Office of Human Resources Management, U.S. Department of Commerce.

ACTION: Notice and request for proposals.

SUMMARY: The Department of Commerce (DOC) established a postsecondary internship program to aid and promote experiential training activities which foster future employment in DOC or the Federal Government in general. United States citizens enrolled as students in 2- and 4-year accredited educational institutions will participate in onsite work experiences in DOC bureaus and office in order to integrate academic theory and workplace requirements, gain relevant skills and knowledge, explore federal career options, develop professional networks, and develop a greater awareness of the role of federal agencies. The program will be administered through a partnership between the DOC and nonprofit and/or educational institution(s) of higher education and funded by cooperative agreement(s). There will be no employer-employee relationship between DOC and its hosted interns. The recipient will be the supervisor of record for the interns and shall control the means and manner of the interns' activities. This notice solicits proposals from eligible institutions that desire to collaborate with the DOC on this initiative.

DATES: Proposals must be received by the DOC no later than 12 noon Eastern Standard Time (EST), December 23, 2004.

ADDRESSES: Proposals must be submitted to the U.S. Department of Commerce, Office of Human Resources Management, ATTN: Carin Otero, 1401 Constitution Avenue, NW., Room 5004, Washington DC 20230. Note: If the application is hand-delivered by the applicant or its representative to the U.S. Department of Commerce, Herbert C. Hoover Building, the application must be delivered to Room 1874, which is located at Entrance #10, 15th Street, NW., between Pennsylvania and Constitution Avenues. The application should be addressed as specified above. Applications delivered on the date of the application deadline must be delivered by 12 noon EST. Applications will not be accepted electronically or via facsimile.

FOR FURTHER INFORMATION CONTACT: For a copy of the full funding opportunity announcement for this request for proposals and/or an application kit, please note the Web site below listed under “Electronic Access.” For a paper copy of the full funding opportunity announcement and/or an application kit, contact Carin Otero, U.S. Department of Commerce, Office of Human Resources Management, 1401 Constitution Avenue, NW., Room 5004, Washington DC 20230, or via Internet at Cotero1@doc.gov, or via telephone at (202) 482-1445.

SUPPLEMENTARY INFORMATION: Electronic Access: The full funding opportunity announcement for the Postsecondary Internship Program is available via the Internet at: http://ohrm.doc.gov/Intern/internprogram.htm. This announcement will also be available through Grants.gov at: http://www.Grants.gov.

Funding Availability: Projections based upon previous programs indicate an average availability of between $230,000-$950,000 to support from 25 to 100 interns. However, the exact level of funding is not yet known until DOC and other agency host offices project their participation levels. Proposals should be based upon the cost of administering a summer program for 25 student interns and five interns for each academic year session.

Statutory Authority: Authority for the Postsecondary Internship Program is provided by 5 U.S.C. 7201, which requires that each Executive agency conduct a continuing program for the recruitment of members of minorities to address under representation of minorities in various categories of Federal employment. Executive Order 13256 provides for Executive departments to enter into, among other things, cooperative agreements with Historically Black Colleges and Universities (HBCUs) to further the goals of the Executive Order, principally that of strengthening the capacity of HBCUs to provide quality education, and to increase opportunities to participate in and benefit from Federal programs. Executive Order 13230 calls for increasing opportunities for Hispanic Americans to participate in and benefit from Federal education programs. Executive Order 13270 helps ensure that greater Federal resources are available to the tribal colleges. Executive Order 13216 directs Federal agencies to increase participation of Asian and Pacific Islanders in Federal programs. Applications will be accepted from any eligible institution, and applications for internships shall be accepted from all students meeting program eligibility criteria and will not be limited only to minority students. Application, referral, and selection processes shall be conducted without any consideration of race, ethnicity, gender, or other personal factors.

Catalog of Federal Domestic Assistance: 11.702—Internship Program for Postsecondary Students.

Eligibility: Accredited universities, colleges and nonprofit organizations are eligible to apply. Eligible institutions may form joint ventures to submit a joint application to share costs and administration roles and responsibilities. In such cases, one of the institutions must be designated as the lead organization for purposes of receipt and overall accountability for any financial assistance award received under this program.

Cost Sharing or Matching Requirement: Cost sharing is not required for the internship program.

Intergovernmental Review: Applications under this program are not subject to Executive Order 12372, “Intergovernmental Review of Federal Programs.”

Evaluation and Selection Procedures: Prior to the formal paneling process, each application will receive an initial review to ensure that all required forms, signatures, and documentation are present. Each application will receive an independent, objective review by a panel qualified to evaluate the applications submitted. The Independent Review Panel, consisting of at least three individuals (who are federal employees), will review all applications based on the criteria stated below. The Independent Review Panel will evaluate and rank the proposals. Each reviewer will evaluate and provide a score for each proposal. After all proposals are assigned a score, each proposal will be ranked according to the average total score given by the reviewers. The final decision on awards will be based upon the proposal ranking, availability of funding, and the Selecting Official's (DOC Program Officer) determination of which proposals best meet the objectives of the program, specifically relating to who will best reach the targeted audience of intern candidates. The amount of funds awarded to each recipient will be determined in pre-award negotiations between the applicant, the Grants Office and the DOC Program Officer.

Evaluation Criteria:

(1) Quality of Program Plan (30 percent). Includes, but is not limited to, strategy for outreach and publicity, procedures for collecting and evaluating applications, comprehensiveness of program to include plans for onsite orientation for summer sessions, and practicality of approach.

(2) Proposed Costs (20 percent). The proposed budget must be comprehensive and should include all costs for program personnel, fringe benefits, travel, equipment, supplies, and other associated items. The stipend level and other benefits (i.e., housing, local transportation, etc.) proposed for students should be stated in the budget and the budget narrative.

(3) Key Personnel Qualifications (20 percent). Includes an assessment of the number, qualifications, and proposed roles of staff who will administer the internship program. Resumes of proposed personnel will facilitate the evaluation of the competency and experience of the proposed staff.

(4) Capabilities of the Applicant Organization (20 percent). Considers, among other things, previous experience and success administering similar programs, and staff and resources to assure adequate development, supervision, and execution of the proposed program. Additionally, an organization's commitment to educate/advance the education of women, minorities, and people with disabilities will be a consideration in evaluating this factor.

Limitation of Liability: Funding for the program listed in this notice is contingent upon the availability of Fiscal Year 2005 appropriations. DOC issues this notice subject to the appropriations made available under the current Continuing Resolution, H.J. Res. 107, “making continuing appropriations for the Fiscal Year 2005, and for other purposes,” Public Law 108-309. DOC anticipates making awards for this program provided that funding for the program is continued beyond November 20, 2005, the expiration of the current Continuing Resolution. In no event will the DOC be responsible for proposal preparation costs if this program fails to receive funding or is cancelled because of other agency priorities. Publication of this announcement does not oblige the DOC to award any specific project or to obligate any available funds.

The Department of Commerce Pre-Award Notification Requirements for Grants and Cooperative Agreements: The Department of Commerce Pre-Award Notification Requirements for Grants and Cooperative Agreements contained in the Federal Register notice of October 1, 2001 (66 FR 49917), as amended by the Federal Register notice published on October 30, 2002 (67 FR 66109), are applicable to this solicitation.

Paperwork Reduction Act: This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for this notice concerning grants, benefits, and contracts (5 U.S.C. 553(a)(2)). Because notice and opportunity for comment are not required pursuant to 5 U.S.C. 553 or any other law, the analytical requirements of the Regulatory Flexibility Act (5 U.S.C. 601 et seq) are inapplicable. Therefore, a regulatory flexibility analysis has not been prepared.

Dated: November 17, 2004.
Deborah A. Jefferson,
Director for Human Resources Management.

[FR Doc. 04-25901 Filed 11-22-04; 8:45 am]

BILLING CODE 3510-BS-P